ENVIRONMENTAL PROTECTION AGENCY

[FRL-6977-1]

Notice of Agency Information Collection Activities for Superfund Cooperative Agreements and State Contracts

AGENCY: Environmental Protection Agency.

ACTION: Notice.

SUMMARY: In compliance with the Paperwork Reduction Act (44 U.S.C. 3501 et seq.), this document announces that U.S. Environmental Protection Agency is planning to submit the following continuing Information Collection Request (ICR) to the Office of Management and Budget (OMB): Cooperative Agreements and State Contracts for Superfund Response Actions (OMB Control No. 2010-0020; EPA ICR No. 1487.06) expiring September 30, 2001. Before submitting the ICR to OMB for review and approval, EPA is soliciting comments on specific aspects of the proposed information collection as described below.

DATES: Comments must be submitted on or before July 9, 2001.

ADDRESSES: Send comments to Kirby Biggs, Office of Emergency and Remedial Response, U.S. Environmental Protection Agency, Mail Code 5204G, 1200 Pennsylvania Avenue, NW., Washington, DC 20460, (703) 308-8506, e-mail: Biggs.Kirby@epa.gov

FOR FURTHER INFORMATION CONTACT: Kirby Biggs, at the address and telephone number listed above.

SUPPLEMENTARY INFORMATION: Affected entities: Entities potentially affected are those States, Federally recognized Indian tribes, and political subdivisions that apply to EPA for financial assistance under a Superfund cooperative agreement or a Superfund State Contract.

Title: Cooperative Agreements and Superfund Contracts for Superfund Response Actions (OMB Control No. 2010-0020; EPA ICR No. 1487.06) expiring 09/30/01.

Abstract: This ICR authorizes the collection of information under 40 CFR part 35, subpart O, which establishes the administrative requirements for cooperative agreements funded under the Comprehensive Environmental Response, Compensation, and Liability Act (CERCLA) for State, political subdivisions, and Federally recognized Indian tribal government response actions. This regulation also codifies the administrative requirements for Superfund State Contracts for non-State lead remedial responses. This regulation includes only those provisions mandated by CERCLA, required by OMB Circulars, or added by EPA to ensure sound and effective financial assistance management. The information is collected from applicants and/or recipients of EPA assistance and is used to make awards, pay recipients, and collect information on how Federal funds are being spent. EPA requires this information to meet its Federal stewardship responsibilities. Recipient responses are required to obtain a benefit (federal funds) under 40 CFR part 31, “Uniform Administrative Requirements for Grants and Cooperative Agreements to State and Local Governments' and under 40 CFR part 35, “State and Local Assistance.” An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology (e.g., permitting electronic submission of responses).

Burden Statement: The current annual reporting and record keeping burden for this collection is estimated to average 11.58 hours per response. The current estimated number of annual respondents is 361 and the estimated total annual hour burden is 4,182 hours. The frequency of response is as required. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Send comments regarding these matters, or any other aspect of this information collection, including suggestions for reducing the burden to the address listed above.

Dated: May 4, 2001.
Steve Caldwell,
Acting Director, State, Tribal and Site Identification Center, Office of Emergency and Remedial Response, Office of Solid Waste and Remedial Response.

[FR Doc. 01-11833 Filed 5-9-01; 8:45 am]

BILLING CODE 6560-50-U